DEPARTMENT OF EDUCATION

Rehabilitation Short-Term Training

AGENCY: Office of Special Education and Rehabilitative Services, Department of Education.

ACTION: Notice of final priority.

SUMMARY: The Assistant Secretary for the Office of Special Education and Rehabilitative Services announces a priority under the Rehabilitation Short-Term Training program. The Assistant Secretary may use this priority for competitions in fiscal year (FY) 2002 and in later years. We take this action to focus on training in areas of national need. We intend the priority to improve the leadership among top-level managers and administrators of the State Vocational Rehabilitation Services Program.

EFFECTIVE DATE: This priority is effective December 7, 2001.

FOR FURTHER INFORMATION CONTACT: Christine Marschall, U.S. Department of Education, 400 Maryland Avenue, SW., room 3325, Switzer Building, Washington, DC 20202-2649. Telephone: (202) 205-2779 or via Internet: Christine.Marschall@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION: The State Vocational Rehabilitation Services Program continues to undergo significant change. Vocational rehabilitation (VR) programs are serving increased numbers of individuals with significant disabilities, are seeking to reach unserved and underserved populations, and increasingly are recognizing that their success in promoting the employment of their consumers depends in part on the strength of their linkages with employers and with generic employment and training programs. In their efforts to improve the employment outcomes of the individuals they serve, State VR agencies must remain alert to this ever-changing environment.

The changed environment of State VR agencies demands a different set of skills from leaders and managers than has traditionally been required. Managers and leaders in the VR system need to develop new skills to respond effectively to the changing demands. We have determined that it is in the best interest of the State VR Services Program to develop a leadership training program that focuses on leadership skills as applied to the unique issues facing the VR agencies in a peer setting. Progressive levels of training are needed to meet the varying needs of administrators and directors. One institute would ensure consistency in training and provide for better quality control. State agencies would be required to provide some degree of support to the program.

We published a notice of proposed priority for this program in the Federal Register on August 6, 2001 (66 FR 41126). The notice of proposed priority included a discussion of the significant issues and analysis used in the determination of this priority.

There are no differences between the notice of proposed priority and this notice of final priority.

Analysis Of Comments and Changes

In response to our invitation in the notice of proposed priority, three parties submitted comments on the proposed priority. An analysis of the comments and of any changes in the priority since publication of the notice of proposed priority follows.

Generally, we do not address technical and other minor changes—and suggested changes the law does not authorize us to make under the applicable statutory authority.

Comments: One commenter recommended that we require the project to be based on academic credit and lead to a formal certificate or degree.

Discussion: While in Rehabilitation Long-Term Training grants there is a statutory requirement that training be based on academic credit and lead to a formal certificate or degree, there is no authority to include this requirement in the Rehabilitation Short-Term Training priority. However, programs that provide academic credit and lead to a formal certificate or degree are not prohibited under the priority.

Changes: None.

Comments: One commenter recommended a requirement that the training be linked directly to the Comprehensive System of Personnel Development requirements.

Discussion: We agree that there is a logical link between the proposed priority and the requirements of the Comprehensive System of Personnel Development. However, we do not agree that addressing such a link should be a requirement that an applicant must address.

Changes: None.

Comments: One commenter recommended that State agencies sending participants to the leadership program not be required to contribute to the cost of the program.

Discussion: The notice of proposed priority indicated the benefits associated with requiring financial support to be provided by the State agency of participants. We do not agree that elimination of the financial contributions of State agencies would contribute to the overall goals of the program.

Changes: None.

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

National Rehabilitation Leadership Institute

We will fund one project to establish a National Rehabilitation Leadership Institute that will focus on developing the leadership skills of top-level managers and administrators in State VR agencies. The project must have plans for addressing the leadership needs in all VR agencies funded under the Act and programs funded under section 121 of the Act.

The project must employ a curriculum that focuses on the development of leadership skills and on the application of those skills to current challenges and issues in the VR program. The project must be capable of structuring leadership curricula around current VR issues of national significance, such as using VR evaluation standards and performance indicators to assess and improve agency performance, coordinating effectively with generic employment and training programs, and increasing client choice. The advisory committee (described later in this notice) and the Assistant Secretary will determine actual issues.

The project must employ a curriculum that includes several levels of training to meet the needs of audiences ranging from new State administrators and directors to seasoned administrators and directors. The project's curriculum must include sequential courses that allow for repeated practice of newly learned skills over time, with performance feedback. The project must provide training in a peer setting.

The project must coordinate its training activities with activities conducted under the State Vocational Rehabilitation Unit In-Service Training program, the Rehabilitation Continuing Education Program, and the National Technical Assistance Centers funded by the Rehabilitation Services Administration (RSA). These programs are also charged with improving the leadership skills of State agency personnel. Therefore, collaboration and coordination are necessary.

The project must establish an advisory committee that includes RSA central and regional office representatives, representatives of State VR agency administrators and trainers, rehabilitation counselors, VR clients, Regional Continuing Education Centers, other educators and trainers of VR personnel, tribes and tribal agencies, and others as determined to be appropriate by the grantee and RSA. This committee must provide substantial input on and direction to the training curriculum, including the specific VR issues to be incorporated.

The project must include an evaluation component based upon clear, specific performance and outcome measures. The results must be reported in its annual progress report.

The project must be designed to ensure that State agencies will contribute to the costs of the participant's training.

National Education Goals

The eight National Education Goals focus the Nation's education reform efforts and provide a framework for improving teaching and learning.

This priority is intended to address the National Education Goal that every adult American will be literate and will possess the knowledge and skills necessary to compete in a global economy and exercise the rights and responsibilities of citizenship.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 390.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.246D Rehabilitation Short-Term Training).
Program Authority: 29 U.S.C. 772.
Dated: November 2, 2001.
Robert H. Pasternack,
Assistant Secretary for Special Education and Rehabilitative Services.

[FR Doc. 01-27938 Filed 10-6-01; 8:45 am]

BILLING CODE 4000-01-P